DEPARTMENT OF TRANSPORTATION

Federal Aviation Administration

14 CFR Part 71

[Airspace Docket No. 00-AAL-20]

Revision of Class E Airspace; Bethel, AK

AGENCY: Federal Aviation Administration (FAA), DOT.

ACTION: Final rule.

SUMMARY: This action revises Class E airspace at Bethel, AK, in two ways: The FAA will cancel the Bethel Very High Frequency (VHF) Omnidirectional Range (VOR) instrument approach to runway (RWY) 36 at Bethel, AK, and simultaneously reduce the Class E (surface area extension) airspace at Bethel, AK; the FAA will correct an administrative error by revising the Class E (surface area) airspace with an exclusion area for Hanger Lake seaplane base operations. This rule will accomplish two actions: Allow for the Napakiak airport to be outside of the Bethel Class E (surface area extension) airspace and reduce the required controlled airspace for aircraft flying Instrument Flight Rules (IFR) operations at Bethel, AK; and fix an administrative oversight by adding the Hanger Lake exclusion area to the Class E airspace description at Bethel, AK.

EFFECTIVE DATE: 0901 UTC, July 12, 2001.

FOR FURTHER INFORMATION CONTACT: Robert Durand, Operations Branch, Federal Aviation Administration, 222 West 7th Avenue, Box 14, Anchorage, AK 99513-7587; telephone number (907) 271-5898; fax: (907) 271-2850; email: Bob.Durand@faa.gov. Internet address: http://www.alaska.faa.gov/at or at address http://162.58.28.41/at.

SUPPLEMENTARY INFORMATION:

History

On February 20, 2001, a proposal to amend part 71 of the Federal Aviation Regulations (14 CFR part 71) to revise the Class E airspace at Bethel, AK, was published in the Federal Register (66 FR 10861). This proposal was necessary to accomplish two actions: (1) Allow for the Napakiak airport to be outside of the Bethel Class E (surface area extension) airspace and reduce the required controlled airspace for aircraft flying Instrument Flight Rules (IFR) operations at Bethel, AK; and (2) fix an administrative oversight by adding the Hanger Lake exclusion area to the Class E airspace description at Bethel, AK.

On November 11, 2000, the FAA initiated Airspace Study Number 00-AAL-077NR, Notice of Proposed Revocation of the VOR RWY 36 Approach Procedure at Bethel, Alaska. Comments during several meetings over the last year with airspace users in the Bethel area indicated that they would like to have Napakiak Airport (WNA) excluded from the Class E (surface area extension) airspace at Bethel, AK. The Bethel Airport has four approaches to RWY 36: (1) Localizer (LOC)/Distance Measuring Equipment (DME) Back Course (BC) RWY 36, (2) VOR/DME RWY 36, (3) Global Positioning System (GPS) RWY 36, and (4) the VOR RWY 36. The Bethel VOR RWY 36 instrument approach, with a procedure turn at 1,600 feet, allows aircraft to descend to 700 feet after the procedure turn is completed. The FAA protects airspace from the point an aircraft may legally descend below 1,000 feet with Class E (surface area) airspace. For aircraft going to Bethel Airport, the Napakiak Airport, located 7.1 nautical miles on a 200° true bearing from Bethel VORTAC, is an alternate place to land and wait for weather to improve when the Bethel surface area is restricted due to weather.

The FAA received favorable comments from Craig Air Incorporated, US Coast Guard District 17, Kusko Aviation Incorporated, Alaska Airlines, and the US Fish and Wildlife Service—Bethel. With the adoption of this proposal, the FAA intends to simultaneously cancel the VOR RWY 36 instrument approach and shorten the Class E airspace to the southwest of Bethel. There would be three remaining instrument approaches to the Bethel RWY 36: (1) LOC/DME BC RWY 36, (2) VOR/DME RWY 36, and (3) GPS RWY 36. This proposal would allow Visual Flight Rules (VFR) operations to continue at Napakiak Airport during Special VFR operations at Bethel Airport, AK.

Additionally, this proposal would fix an administrative oversight by including an exclusion area for the Hanger Lake seaplane base operations to the Class E (surface area) airspace description. Changes to the Bethel airspace would incorporate an exclusion below 1,100 feet MSL between the 061° radial and the 081° radial from 2.9 nautical miles northeast of the Bethel VORTAC.

Interested parties were invited to participate in this rulemaking proceeding by submitting written comments on the proposal to the FAA. No public comments to the proposal were received, thus the rule is adopted as written.

The area will be depicted on aeronautical charts for pilot reference. The coordinates for this airspace docket are based on North American Datum 83. The Class E airspace areas designated as surface areas are published in paragraph 6002 and the Class E airspace areas designated as an extension to a Class D or Class E surface area are published in paragraph 6004 in FAA Order 7400.9H, Airspace Designations and Reporting Points, dated September 1, 2000, and effective September 16, 2000, which is incorporated by reference in 14 CFR 71.1. The Class E airspace designations listed in this document would be published subsequently in the Order.

The Rule

This amendment to 14 CFR part 71 revises the Class E airspace at Bethel, AK, in two ways: (1) Reduces the amount of controlled airspace required southwest of the Bethel airport; and (2) modifies the Class E (surface area) airspace description to exclude the Hanger Lake seaplane base operations. The area will be depicted on aeronautical charts for pilot reference. The intended effects of this rule are: (1) To reduce the controlled airspace for IFR operations at Bethel, AK, thus allowing for VFR operations at Napakiak Airport during Special VFR operations at Bethel Airport and (2) fix an administrative oversight by adding the Hanger Lake exclusion area to the Class E airspace description.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6002 Class E airspace designated as surface areas.

* * * * *

AAL AK E2 Bethel, AK [REVISED]

Bethel Airport, AK

(Lat. 60°46′47″ N., long. 161°50′17″ W.)

Bethel VORTAC

(Lat. 60°47′05″ N., long. 161°49′27″ W.)

Within a 4.1-mile radius of the Bethel Airport, excluding that portion below 1,100 feet MSL between the 061° radial and the 081° radial from 2.9 miles northeast of the Bethel VORTAC. This Class E airspace area is effective during the specific dates and times established in advance by a Notice to Airmen. The effective date and time will thereafter be continuously published in the Airport/Facility Directory.

* * * * *

Paragraph 6004 Class E airspace designated as an Extension to a Class D or Class E surface area.

* * * * *

AAL AK E4 Bethel, AK [REVISED]

Bethel Airport, AK

(Lat. 60°46′47″ N., long. 161°50′17″ W.)

Bethel VORTAC

(Lat. 60°47′05″ N., long. 161°49′27″ W.)

That airspace extending upward from the surface within 3 miles each side of the 022° radial from the Bethel VORTAC, extending from the 4.1-mile radius of the Bethel Airport to 8.2 miles northeast of the airport, excluding that portion below 1,100 feet MSL between the 061° radial and the 081° radial from 2.9 miles northeast of the Bethel VORTAC, within 3.4 miles each side of the Bethel VORTAC 006° radial, extending from the 4.1-mile radius of the Bethel Airport to 11 miles north of the Bethel VORTAC and within 3.5 miles each side of the Bethel VORTAC 213° radial extending from the 4.1-mile radius of the Bethel Airport to 5 miles southwest of the airport.

* * * * *

Issued in Anchorage, AK, on April 23, 2001.
Trent S. Cummings,
Manager, Air Traffic Division, Alaskan Region.

[FR Doc. 01-10669 Filed 4-27-01; 8:45 am]

BILLING CODE 4910-13-P